DEPARTMENT OF AGRICULTURE

Forest Service

Gold Camp Road Final Plan/Environmental Impact Statement and Record of Decision

AGENCY: Forest Service, USDA.

ACTION: Notice of availability and decision.

SUMMARY: In accordance with the National Environmental Policy Act, the Pike National Forest of the Rocky Mountain Region of the Forest Service announces availability of the Final Plan and Final Environmental Impact Statement (Final Plan/EIS) and Record of Decision (ROD) for the Gold Camp Road. The Forest Service is also announcing the agency's decision to restore and reopen a collapsed railroad tunnel and reopen a closed section of Gold Camp Road to one-way traffic, with a third party partner to operate the segment of road (Modified Alternative E). The objective of the management plan for the road is to best accommodate public use and access to National Forest System lands and nearby private in-holdings while maintaining public safety and the historic character of the road. The affected road segment has been closed since 1988 for safety reasons.

DATES: The appeal period for the decision will be 45 days from the date the Environmental Protection Agency (EPA) publishes the notice of availability and decision in the Federal Register.

ADDRESSES: The Final Plan/EIS and ROD are available on the Internet at http://www.fs.fed.us/r2/psicc/projects/gold_camp/. Copies of the Final Plan/EIS and ROD may be obtained by contacting the Pikes Peak Ranger District, 601 S. Weber St., Colorado Springs, CO 80903. Notice of Appeal must be sent to: USDA-Forest Service, Rocky Mountain Region, Attn: Appeals Deciding Officer, P.O. Box 25127, Lakewood, Colorado 80225.

FOR FURTHER INFORMATION CONTACT: Frank Landis, Supervisory Outdoor Recreation Planner, Pikes Peak Ranger District, at the address listed above or by telephone at 719-477-4203.

SUPPLEMENTARY INFORMATION: The Final Plan/EIS and ROD are also available for inspection at the following public libraries in Colorado:

Penrose Public Library—20 N. Cascade Ave., Colorado Springs, CO 80903.

East Library—5550 N. Union Blvd., Colorado Springs, CO 80918.

The Forest Service announced in the Federal Register (69 FR 39401, June 30, 2004) that the agency intended to prepare an EIS addressing the possible federal action of preparing a plan for the Gold Camp Road and inviting comments on the scope of the EIS. Comments were received from April 12 through August 17, 2004, and were considered in the Draft Plan/EIS.

Notices of availability were published in the Federal Register for the Gold Camp Road Draft Plan/EIS by the Forest Service (70 FR 2605, January 14, 2005) and the EPA (70 FR 4119, January 28, 2005). Comments were accepted on the Draft Plan/EIS through March 29, 2005. Comments were considered and the Final Plan/EIS was prepared based on agency and public input. The Final Plan/EIS contains a new preferred alternative that incorporates elements of three of the other action alternatives.

A ROD accompanies the Final Plan/EIS. The ROD accompanying the Final Plan/EIS is subject to appeal pursuant to 36 CFR part 215.

Reviewers are obligated to structure their participation in the National Environmental Policy Act process so that it is meaningful and alerts the agency to the reviewer's position and contentions, (Vermont Yankee Nuclear Power Corp. v. NRDS. 435 U.S. 519, 553, (1978)). Environmental objections that could have been raised at the draft stage may be waived if not raised until after completing the Final EIS (City of Angoon v. Hodel (9th Circuit 1986) and Wisconsin Heritages Inc. v. Harris 490 F. Suppl. 1334, 1338 (E.D. Wis. 1980)).

This notice is provided pursuant to federal regulations implementing the National Environmental Policy Act (40 CFR 1506.6).

Dated: July 8, 2005.
Robert J. Leaverton,
Forest Supervisor.

[FR Doc. 05-13865 Filed 7-14-05; 8:45 am]

BILLING CODE 3410-ES-P